FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202)-523-5793 or tradeanalysis@fmc.gov.

Agreement No.: 011275-026.

Title: Australia and New Zealand/United States Discussion Agreement.

Parties: ANL Singapore PTE LTD.; Hamburg-Südamerikanische dampfschifffahrts-Gesellschaft KG; and Hapag-Lloyd AG.

Filing Party: Wayne R. Rohde, Esq.; Sher & Blackwell LLP; 1850 M Street, NW.; Suite 900; Washington, DC 20036.

Synopsis: The amendment deletes A.P. Moller-Maersk A/S as a party to the agreement.

Agreement No.: 012067.

Title: U.S. Supplemental Agreement to HLC Agreement.

Parties: BBC Chartering & Logistics GmbH & Co. KG; Beluga Chartering GmbH; Clipper Projects Ltd.; Industrial Maritime Carriers, L.L.C.; Rickmers-Linie GmbH & Cie. KG; and Universal Africa Lines Ltd.

Filing Party: Wade S. Hooker, Esq.; 211 Central Park W; New York, NY 10024.

Synopsis: The agreement authorizes the parties to participate in discussions related to the International Council of Heavy Lift and Project Cargo Carriers Agreement on non-rate matters of concern to heavy lift and project carriers in the U.S. trades.

By Order of the Federal Maritime Commission.
Dated: April 10, 2009.
Karen V. Gregory,
Secretary.

[FR Doc. E9-8590 Filed 4-14-09; 8:45 am]

BILLING CODE 6730-01-P